DEPARTMENT OF ENERGY

Federal Energy Regulatory Commission

[Project No. 15396-001, Project No. 15397-001]

Central Hudson Gas and Electric Corporation; Notice of Intent To File License Application, Filing of Pre-Application Document (Pad), Commencement of Pre-Filing Process and Scoping, Request for Comments on the Pad and Scoping Document, and Identification of Issues and Associated Study Requests

a. Type of Filing: Notice of Intent to File License Applications for Original Licenses and Commencing Pre-filing Process.

b. Project Nos.: P-15396-001 and P-15397-001.

c. Dated Filed: May 30, 2025.

d. Submitted By: Central Hudson Gas and Electric Corporation (Central Hudson).

e. Name of Project: Sturgeon Pool Hydroelectric Project (P-15396-001, Sturgeon Pool Project) and Dashville Hydroelectric Project (P-15397-001, Dashville Project).

f. Location: The currently unlicensed projects are located on the Wallkill River in Ulster County, New York. The Sturgeon Pool Project is located at river mile (RM) 0.6, and the Dashville Project is located immediately upstream of the Sturgeon Pool Project at RM 2.3 of the Wallkill River.

g. Filed Pursuant to: 18 CFR part 5 of the Commission's Regulations.

h. Potential Applicant Contact: Ben Yager, Central Hudson Gas & Electric Corporation, 284 South Avenue, Poughkeepsie, New York 12601; (845) 264-0017; byager@cenhud.com; Katie Raine, HDR Engineering, Inc., 75 John Roberts Road, Unit B1, South Portland, ME 04106; (207) 239-3789; katie.raine@hdrinc.com.

i. FERC Contact: Laurie Bauer at (202) 502-6519 or email at laurie.bauer@ferc.gov.

j. Cooperating agencies: Federal, state, local, and Tribal agencies with jurisdiction and/or special expertise with respect to environmental issues that wish to cooperate in the preparation of the environmental documents should follow the instructions for filing such requests described in item o below. Cooperating agencies should note the Commission's policy that agencies that cooperate in the preparation of the environmental documents cannot also intervene. See 94 FERC ¶ 61,076 (2001).

k. With this notice, we are initiating informal consultation with: (a) the U.S. Fish and Wildlife Service and NOAA Fisheries under section 7 of the Endangered Species Act and the joint agency regulations thereunder at 50 CFR part 402; and (b) the State Historic Preservation Office, as required by section 106, National Historic Preservation Act, and the implementing regulations of the Advisory Council on Historic Preservation at 36 CFR 800.2.

l. With this notice, we are designating Central Hudson as the Commission's non-federal representative for carrying out informal consultation, pursuant to section 7 of the Endangered Species Act and section 106 of the National Historic Preservation Act.

m. Central Hudson filed with the Commission a Pre-Application Document (PAD, including a proposed process plan and schedule), pursuant to 18 CFR 5.6 of the Commission's regulations.

n. A copy of the PAD is available for review on the Commission's website (http://www.ferc.gov) using the “eLibrary” link. Enter the docket number, excluding the last three digits of the sub-docket in the docket number field, to access the document. For assistance, contact FERC Online Support at FERCOnlineSupport@ferc.gov, (866) 208-3676 (toll free) or (202) 502-8659 (TTY). A copy is also available via the contact in paragraph h.

Register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, community organizations, Tribal members, and others, access publicly available information and navigate Commission processes. For public inquiries and assistance with making filings such as interventions, comments, or requests for rehearing, the public is encouraged to contact OPP at (202) 502-6595 or OPP@ferc.gov.

o. With this notice, we are soliciting comments on the PAD and Commission staff's Scoping Document 1 (SD1), as well as study requests. All comments on the PAD and SD1, and study requests should be sent to the address above in paragraph h. In addition, all comments on the PAD and SD1, study requests, requests for cooperating agency status, and all communications to and from Commission staff related to the merits of the potential applications must be filed with the Commission.

The Commission strongly encourages electronic filing. Please file all documents using the Commission's eFiling system at https://ferconline.ferc.gov/FERC.aspx. Commenters can submit brief comments up to 6,000 characters, without prior registration, using the eComment system at https://ferconline.ferc.gov/ QuickComment.aspx. For assistance, please contact FERC Online Support. In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-15396-001 and/or 15397-001.

All filings with the Commission must bear the appropriate heading: “Comments on Pre-Application Document,” “Study Requests,” “Comments on Scoping Document 1,” “Request for Cooperating Agency Status,” or “Communications to and from Commission Staff.” Any individual or entity interested in submitting study requests, commenting on the PAD or SD1, and any agency requesting cooperating status must do so on or before 5:00 p.m. Eastern Daylight Time (EDT) on September 27, 2025.

p. Scoping Process: Pursuant to the National Environmental Policy Act (NEPA), Commission staff will prepare either an environmental assessment (EA) or an environmental impact statement (EIS) for each project (collectively referred to as the “NEPA documents”). The NEPA documents will consider both site-specific and cumulative environmental effects, and reasonable alternatives to the proposed action.

Scoping Meetings: Commission staff will hold two scoping meetings for the projects to receive input on the scope of the NEPA documents. We invite all interested agencies, Indian Tribes, NGOs, and the public to attend one or both meetings to assist us in identifying the scope of environmental issues that should be analyzed in the NEPA documents. The dates and times of the scoping meetings are listed below.

Daytime Scoping Meeting

Date: Wednesday, August 27, 2025

Time: 1:00 p.m. to 3:00 p.m. Eastern Daylight Time (EDT)

Location: Hampton Inn and Suites by Hilton Poughkeepsie, 2361 South Road, Poughkeepsie, New York

Evening Scoping Meeting

Date: Wednesday, August 27, 2025

Time: 6:00 p.m. to 8:00 p.m. Eastern Daylight Time (EDT)

Location: Hampton Inn and Suites by Hilton Poughkeepsie, 2361 South Road, Poughkeepsie, New York

Copies of SD1, outlining the subject areas to be addressed in the environmental documents, were mailed to the individuals and entities on the Commission's mailing list and Central Hudson's PAD distribution list. Copies of SD1 may be viewed on the web at http://www.ferc.gov, using the “eLibrary” link. Follow the directions for accessing information in paragraph n. Based on all oral and written comments, a Scoping Document 2 (SD2) may be issued. SD2 may include a revised process plan and schedule, as well as a list of issues, identified through the scoping process.

Environmental Site Review: Central Hudson and Commission staff will hold an environmental site review of the Sturgeon Pool and Dashville Projects from 9:00 a.m. to 12:00 p.m. EDT, August 28, 2025. All interested individuals, agencies, Tribes, and NGOs are invited to attend. Please RSVP to Katie Raine at katie.raine@hdrinc.com or by phone at (207) 239-3789, no later than August 20, 2025 to register for the environmental site review. For security purposes, Central Hudson requests that interested persons provide a photocopy of a photo ID by email to facilitate production of badges to be worn on-site during the environmental site review. All persons attending the environmental site review must wear sturdy, closed-toe shoes or boots, hard hats, and safety glasses (PPE) while on-site, please bring personal PPE.

Central Hudson will provide transportation for confirmed participants to the environmental site review from the Hampton Inn and Suites by Hilton Poughkeepsie. Confirmed participants should arrive by 8:45 a.m. to board the buses as they will depart promptly at 9:00 a.m. The environmental site review will include the Sturgeon Pool Project site, Dashville Project site, and non-project public recreation facilities in the vicinity of the Dashville Project. Buses will return to the Hampton Inn and Suites at approximately 12:00 p.m.

Meeting Procedures: Agencies, Indian Tribes, NGOs, and individuals with environmental expertise and concerns are encouraged to attend the meetings and to assist the staff in defining and clarifying the issues to be addressed in the NEPA documents. At the start of each meeting, Commission staff will provide a brief overview of the meeting format and objectives. Individual oral comments will be taken on a one-on-one basis with a court reporter (with Commission staff present). This format is designed to receive the maximum number of oral comments in a convenient way during the timeframe allotted. If you wish to speak, Commission staff will hand out numbers in the order of your arrival. If all individuals who wish to provide comments have had an opportunity to do so, Commission staff may conclude the meeting a half hour earlier than the scheduled time. Please see appendix C of the SD1 for additional information on the session format and conduct.¹

¹ The appendix referenced in this notice will not appear in the Federal Register. A copy of the appendix was sent to all those receiving this notice in the mail and is available at www.ferc.gov using the “eLibrary” link. For assistance, contact FERC at FERCOnlineSupport@ferc.gov, or (866) 208-3676 (toll free) or (202) 502-8659 (TTY).

Scoping comments will be recorded by the court reporter and become part of the public record for these proceedings. Transcripts will be publicly available on FERC's eLibrary system. If a significant number of people are interested in providing oral comments in the one-on-one settings, a time limit may be implemented for each commentor.

It is important to note that the Commission provides equal consideration to all comments received, whether filed in writing or provided orally at a scoping session. Although there will not be a formal presentation, Commission staff will be available throughout the scoping meeting(s) to answer your questions about the environmental review process. Representatives from Central Hudson will also be present to answer project-specific questions.

Dated: July 28, 2025.
Carlos D. Clay,
Deputy Secretary.

[FR Doc. 2025-14501 Filed 7-30-25; 8:45 am]

BILLING CODE 6717-01-P